DEPARTMENT OF TRANSPORTATION

National Highway Traffic Safety Administration

[Docket Number NHTSA-2001-10866]

Reports, Forms, and Recordkeeping Requirements

AGENCY: National Highway Traffic Safety Administration (NHTSA), DOT.

ACTION: Request for comment on collections of information.

SUMMARY: In compliance with the Paperwork Reduction Act (44 U.S.C. 3501 et seq.), this notice announces that the National Highway Traffic Safety Administration (NHTSA) is planning to submit the following Information Collection Request (ICR) to the Office of Management and Budget (OMB): Exemption from the Make Inoperative Prohibition, Modifier Identification and Consumer Notification, OMB Control Number 2127-New. Before submitting the ICR to OMB for review and approval, NHTSA is soliciting comments on specific aspects of the information collection contained in the final rule of February 27, 2001 (66 FR 12638), “Exemption from the Make Inoperative Prohibition.”

DATES: Comments must be received on or before January 4, 2002.

ADDRESSES: Comments must refer to the docket and notice number cited at the beginning of this notice and be submitted to U.S. Department of Transportation Dockets, Room PL-401, 400 Seventh Street, SW., Washington, DC 20590. Please identify the collection of information for which a comment is provided, by referencing its OMB Control Number. It is requested, but not required, that one original plus two copies of the comments be provided. The Docket Section is open on weekdays from 10:00 a.m. to 5:00 p.m.

FOR FURTHER INFORMATION CONTACT: Gayle Dalrymple, Telephone: (202) 366-5559. Fax: (202) 493-2739.

SUPPLEMENTARY INFORMATION: Affected Entities: Businesses that modify vehicles so that the vehicles may be used by persons with disabilities.

Title: Exemption for the Make Inoperative Prohibition.

I. Background

On February 27, 2001 NHTSA published a final rule (66 FR 12638) to facilitate the modification of motor vehicles so that persons with disabilities can drive or ride in them as passengers. In that final rule, the agency issued a limited exemption from a statutory provision that prohibits specified types of commercial entities from either removing safety equipment or features installed on motor vehicles pursuant to the Federal motor vehicle safety standards or altering the equipment or features so as to adversely affect their performance. The exemption is limited in that it allows repair businesses to modify only certain types of Federally-required safety equipment and features, under specified circumstances. The regulation is found at 49 CFR part 595 Subpart C—Vehicle Modifications to Accommodate People with Disabilities.

This final rule included two new “collections of information,” as that term is defined in 5 CFR part 1320 Controlling Paperwork Burdens on the Public: modifier identification and a document to be provided to the owner of the modified vehicle stating the exemptions used for that vehicle and any reduction in load carrying capacity of the vehicle of more than 100 kg (220 lbs).

II. Modifier Identification

Modifiers who take advantage of the exemption created by this rule are required to furnish NHTSA with a written document providing the modifier's name, address, and telephone number, and a statement that the modifier is availing itself of the exemption. The rule requires:

S595.6 Modifier Identification

(a) Any motor vehicle repair business that modifies a motor vehicle to enable a person with a disability to operate, or ride as a passenger in, the motor vehicle and intends to avail itself of the exemption provided in 49 CFR 595.7 shall furnish the information specified in paragraphs (a)(1) through (3) of this section to: Administrator, National Highway Traffic Safety Administration, 400 Seventh Street, SW., Washington, DC 20590.

(1) Full individual, partnership, or corporate name of the motor vehicle repair business.

(2) Residence address of the motor vehicle repair business and State of incorporation if applicable.

(3) A statement that the motor vehicle repair business modifies a motor vehicle to enable a person with a disability to operate, or ride as a passenger in, the motor vehicle and intends to avail itself of the exemption provided in 49 CFR 595.7.

(b) Each motor vehicle repair business required to submit information under paragraph (a) of this section shall submit the information not later than August 27, 2001. After that date, each motor vehicle repair business that modifies a motor vehicle to enable a person with a disability to operate, or ride as a passenger in, the motor vehicle and intends to avail itself of the exemption provided in 49 CFR 595.7 shall submit the information required under paragraph (a) not later than 30 days after it first modifies a motor vehicle to enable a person with a disability to operate, or ride as a passenger in, the motor vehicle. Each motor vehicle repair business who has submitted required information shall keep its entry current, accurate and compete by submitting revised information not later than 30 days after the relevant changes in the business occur.”

This requirement is a one-time submission unless changes are made to the business as described in paragraph (b). NHTSA estimates that there are currently 400 businesses making modifications to motor vehicles to accommodate persons with disabilities. Of those 400, we estimate 85 percent will need to use the exemptions provided by 49 CFR 595.7 (340 businesses). We estimate that the burden hours to meet the requirement of paragraph (a) will be a one-time expenditure of 56.8 hours nationwide in 2001:

340 businesses × 10 minutes/business = 56.8 hours.

We estimate the material cost associated with this one-time submission to be 44 cents per responding business, or $149.60 nationwide. After the initial submission there will be an annual burden for businesses that begin using the exemptions, or make changes to the information required in paragraph (a). We estimate that five percent of the 340 businesses using the exemptions (85% of 400) will experience these changes annually. This will cause an annual burden of 2.8 hours and $7.48 in each year after 2001.

Burden means the total time, effort, or financial resources expended by person to generate, maintain, retain, disclose or provide information to or for a Federal agency. This includes the time needed to review instruction; develop, acquire, install, and utilize technology and systems for the purposes of collecting, validating, and verifying information, processing and maintaining information and disclosing and providing information; adjust the existing ways to comply with any previously applicable instructions and requirements; train personnel to be able to respond to a collection of information; and transmit or otherwise disclose the information.

We seek comment on:

1. Is our estimate of 400 businesses engaged in vehicle modification to accommodate people with disabilities correct?

2. Are we correct in assuming that a maximum of 85 percent of those 400 businesses, or 340 businesses, will need to use the exemptions provided by 49 CFR 595.7?

3. Are our estimates of the burden hours and material cost of compliance with 49 CFR 595.6 reasonable?

III. Identification of Which Portions of the Exemption Are Being Used

Modifiers who avail themselves of the exemptions in 49 CFR 595.7 are required to keep a record, for each applicable vehicle, listing which standards, or portions thereof, no longer comply with the Federal motor vehicle safety standards and to provide a copy to the owner of the vehicle modified (see 49 CFR 595.7 (b) and (e) as published in the final rule).

We estimate that:

1. There are approximately 2,300 vehicles modified for persons with disabilities per year by 400 businesses,

2. If 85 percent of the 400 businesses use the exemptions provided by 49 CFR 595.7, those 340 businesses will modify 1955 vehicles annually, and

3. The burden for producing the record required by 49 CFR 595.7 in accordance with paragraph (e) for those vehicles will be 652 hours per year nationwide.

In the final rule we anticipated that the least costly way for a repair business to comply with this portion of the new rule would be to annotate the vehicle modification invoice as to the exemption, if any, involved with each item on the invoice. The cost of preparing the invoice is not a portion of our burden calculation, as that preparation would be done in the normal course of business. The time needed to annotate the invoice, we estimate, is 20 minutes. Therefore, the burden hours for a full year are calculated as:

1,955 vehicles × 20 minutes/vehicle = 651.7 hours.

For 2001 the burden will be reduced because the rule did not become effective until April 30. Therefore, the annual burden will be reduced by 4/12 to 217.2 hours for 2001.

This burden includes the calculation required by 49 CFR 595.7(e)5, but not the gathering of the information required for the calculation. That information would be gathered in the normal course of the vehicle modification. The only extra burden required by the new rule is the calculation of the reduction in loading carrying capacity and conveying this information to the vehicle owner. Again we are assuming that annotation on the invoice is the least burdensome way to accomplish this customer notification.

There will be no additional material cost associated with compliance with this requirement since no additional materials need be used above those used to prepare the invoice in the normal course of business. We are assuming it is normal and customary in the course of vehicle modification business to prepare an invoice, to provide a copy of the invoice to the vehicle owner, and to keep a copy of the invoice for five years after the vehicle is delivered to the owner in finished form.

We seek comment on whether our assumptions about the following are reasonable:

1. The document required by 49 CFR 595.7(b) and specified in paragraph (e) will need to be prepared for approximately 1,955 vehicles modified nationwide per year,

2. Annotation of each vehicle modification invoice as to which exemptions were used will take an average of 20 minutes, and

3. It is normal in the course of vehicle modification business to prepare an invoice, to provide a copy of the invoice to the vehicle owner, and to keep a copy of the invoice for five years after the vehicle is delivered to the owner in finished form.

IV. Summary

The estimated burden for modifiers wishing to use the new make inoperative exemptions allowed by 49 CFR 595.7 to identify themselves to NHTSA according to 49 CFR 595.6 was calculated as follows:

2001

Respondents 340.0

Responses × 1.0

Hrs/response × 0.167

2001 burden = 56.8 hours

and

$/response × 0.44 = $149.60

Years after 2001

Respondents 17.0

Responses × 1.0

Hrs/response × 0.167

2001 burden = 2.8 hours

and

$/response × 0.44 = $7.48

The estimated burden for preparing the document required by 49 CFR 595.7(b) and specified in paragraph (e) was calculated as follows:

2001

Respondents 340.0

Av. # Responses × 1.92

Hrs/response × 0.333

2001 burden = 217.2 hours

Years after 2001

Respondents 340.0

Av. # Responses × 5.75

Hrs/response × 0.167

Annual burden = 2.8 hours

Total reporting burden for 2001 is: 57 + 217 = 274 hours, and $149.60.

Total reporting burden for years after 2001 is: 3 + 652 = 655 hours, and $7.48.

Issued on: October 31, 2001.
Stephen R. Kratzke,
Associate Administrator for Safety Performance Standards.

[FR Doc. 01-27735 Filed 11-2-01; 8:45 am]

BILLING CODE 4910-59-P